NATIONAL AERONAUTICS AND SPACE ADMINISTRATION

[Notice (04-026)]

Notice of Prospective Patent License

AGENCY: National Aeronautics and Space Administration.

ACTION: Notice of prospective patent license.

SUMMARY: NASA hereby gives notice that STC Catalysts, Inc., of 10 Basil Sawyer Drive, Hampton, VA 23666-1340, has applied for an exclusive license to practice the invention described in NASA Case Number LAR-15851-1-CU entitled “Process For Coating Substrates With Catalyst Materials” for which a U.S. Patent Application was filed and assigned to the United States of America as represented by the Administrator of the National Aeronautics and Space Administration. Written objections to the prospective grant of a license should be sent to Langley Research Center. NASA has not yet made a determination to grant the requested license and may deny the requested license even if no objections are submitted within the comment period.

DATES: Responses to this notice must be received by March 9, 2004.

FOR FURTHER INFORMATION CONTACT: Helen M. Galus, Patent Attorney, Langley Research Center, Mail Stop 212, Hampton, VA 23681-2199. Telephone 757-864-3227; fax 757-864-9190.

Dated: February 17, 2004.
Robert M. Stephens,
Deputy General Counsel.

[FR Doc. 04-3846 Filed 2-20-04; 8:45 am]

BILLING CODE 7510-01-P